DEPARTMENT OF LABOR

Employment and Training Administration

[TA-W-52,039]

Heraeus Electro-Nite Company, Philadelphia, PA; Notice of Negative Determination Regarding Application for Reconsideration

By application of July 31, 2003, a company official requested administrative reconsideration of the Department's negative determination regarding eligibility to apply for Trade Adjustment Assistance (TAA), applicable to workers and former workers of the subject firm. The denial notice was signed on July 14, 2003, and published in the Federal Register on August 5, 2003 (68 FR 46230).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Heraeus Electro-Nite Company, Philadelphia, Pennsylvania was denied because the “contributed importantly” group eligibility requirement of Section 222(3) of the Trade Act of 1974, was not met, nor was there a shift in production to a foreign source. The “contributed importantly” test is generally demonstrated through a survey of customers of the workers' firm. The survey revealed that none of the respondents increased their purchases of imported molten metal sensors. The company did not import molten metal sensors, nor did they shift production abroad during the relevant period.

In the request for reconsideration, the company official contests the negative decision on the basis that “the increasing amount of foreign steel being sent to this country has caused a number of major steel companies to declare bankruptcy, which has shrunk our business.” The official appears to be claiming that, because the subject firm business depends completely on U.S. steel production, the subject firm workers are import impacted through this association.

When addressing the issue of import impact, the Department is directed by the Trade Act to consider imports of products “like or directly competitive” in the case of primary impacted firms, or whether the subject firm supplied a component in a product produced by a trade certified firm in the case of secondary impact. As neither the subject firm nor its major declining customers reported imports like or directly competitive with the molten metal sensors produced at the subject firm, primary import impact did not occur. As the subject firm did not produce a component used in the products of their customers, the possibility of secondary import impact is equally invalid.

Conclusion

After review of the application and investigative findings, I conclude that there has been no error or misinterpretation of the law or of the facts which would justify reconsideration of the Department of Labor's prior decision. Accordingly, the application is denied.

Signed at Washington, DC this 22nd day of August 2003.
Elliott S. Kushner,
Certifying Officer, Division of Trade Adjustment Assistance.

[FR Doc. 03-24697 Filed 9-29-03; 8:45 am]

BILLING CODE 4510-30-P